DEPARTMENT OF THE INTERIOR

National Park Service

National Register of Historic Places; Notification of Pending Nominations and Related Actions

Nominations for the following properties being considered for listing or related actions in the National Register were received by the National Park Service before June 24, 2006. Pursuant to section 60.13 of 36 CFR part 60 written comments concerning the significance of these properties under the National Register criteria for evaluation may be forwarded by United States Postal Service, to the National Register of Historic Places, National Park Service, 1849 C St., NW., 2280, Washington, DC 20240; by all other carriers, National Register of Historic Places, National Park Service, 1201 Eye St., NW., 8th floor, Washington DC 20005; or by fax, 202-371-6447. Written or faxed comments should be submitted by July 21, 2006.

John W. Roberts,
Acting Chief, National Register/National Historic Landmarks Program.

CALIFORNIA

Kern County

NASA Dryden Flight Research Center Building 4802, South end of Walker Ave., Edwards Air Force Base, 06000656

Los Angeles County

Subway Terminal Building, 417, 415, 425 S. Hill St., 416, 420 424 S. Olive St., Los Angeles, 06000657

Santa Barbara County

Southern Pacific Train Depot, 209 State St., Santa Barbara, 06000658

Santa Clara County

MacFarland House, 775 Santa Ynez St., Stanford, 06000659

COLORADO

Denver County

East High School, 1545 Detroit St., Denver, 06000660

MARYLAND

Howard County

Roberts Inn, 14610 Frederick Rd., Cooksville, 06000661

OREGON

Lane County

Marx—Schaefers House, (Residential Architecture of Eugene, Oregon MPS) 1718 Lincoln St., Eugene, 06000662

PENNSYLVANIA

Dauphin County

Millersburg Ferry, Susquehanna R. bet. Millersburg and Buffalo Township, Millersburg, 06000663

Philadelphia County

American Railway Express Company Garage, 3002-3028 Cecil B. Moore Ave., Philadelphia, 06000664

SOUTH DAKOTA

Kingsbury County

Badger School District Number 18, (Schools in South Dakota MPS) Jct. of Main St. and First Ave., Badger, 06000665

Esmond Methodist Episcopal Church and Township Hall, Jct. of Center St. and Elm St., Esmond, 06000666

Omdalen Barn, 44750 209th St., Lake Preston, 06000667

TENNESSEE

Williamson County

Hamilton—Brown House, 845 Old Charlotte Pike, Franklin, 06000668

WASHINGTON

King County

Windham Apartments, 420 Blanchard St., Seattle, 06000669

Pierce County

National Bank of Tacoma, 1123 Pacific Ave., Tacoma, 06000671

Rhodes, Henry A. and Birdella, House, 701 North J St., Tacoma, 06000670

[FR Doc. E6-10494 Filed 7-5-06; 8:45 am]

BILLING CODE 4312-51-P